DEPARTMENT OF DEFENSE

Office of the Secretary

[Docket ID: DOD-2016-OS-0065]

Proposed Collection; Comment Request

AGENCY: Department of Defense Education Activity, DoD.

ACTION: Notice.

SUMMARY: In compliance with the Paperwork Reduction Act of 1995, the Department of Defense Education Activity announces a proposed public information collection and seeks public comment on the provisions thereof. Comments are invited on: (1) Whether the proposed collection of information is necessary for the proper performance of the functions of the agency, including whether the information shall have practical utility; (2) the accuracy of the agency's estimate of the burden of the proposed information collection; (3) ways to enhance the quality, utility, and clarity of the information to be collected; and (4) ways to minimize the burden of the information collection on respondents, including through the use of automated collection techniques or other forms of information technology.

DATES: Consideration will be given to all comments received by August 1, 2016.

ADDRESSES: You may submit comments, identified by docket number and title, by any of the following methods:

• Federal eRulemaking Portal: http://www.regulations.gov. Follow the instructions for submitting comments.

• Mail: Department of Defense, Office of the Deputy Chief Management Officer, Directorate for Oversight and Compliance, 4800 Mark Center Drive, Mailbox #24, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Aniko Maher, MED, BSN, RN, NCSN, Instructional System Specialist, Nursing, Department of Defense Education Activity, 4800 Mark Center Drive, Alexandria Virginia, 22350-1400, aniko.maher@hq.dodea.edu, or call at (571) 372-6001.

SUPPLEMENTARY INFORMATION: Title; Associated Form; and OMB Number: School Health Services Guide, DoDEA Forms, H-1-1, H-1-2, H-2-1, H-2-2, H-2-2a, H-3-2, H-3-6, H-3-7, H-3-9, H-4-8, H-4-9, H-4-9-1, H-6-3, H-6-5, H-8-2, H-8-3, H-8-4, H-9-3, H-9-6, H-10-3, H-10-6, H12-3, H-13-1; 0704-XXXX.

Needs and Uses: The information collection requirement is necessary to obtain and record student health information, required immunizations, existing medical conditions, limitations, treatments that may require nursing care and intervention at school, for school age children attending DoDEA schools.

Affected Public: Individuals or households, not-for-profit institutions.

Annual Burden Hours: 29,200.

Number of Respondents: 292,000.

Responses per Respondent: 1.

Annual Responses: 292,000.

Average Burden per Response: 6 minutes.

Frequency: On occasion.

Respondents are sponsors/parents/guardians for military dependent school aged children attending DoDEA schools, and medical professionals who provide medical care for those children. Forms collect health history, immunization history, medical care plans, and physical clearance on students for safe health care management during school hours and activities. If the form is not collected, unsafe conditions may develop impacting the welfare of individual students, the school community and the community at large. The 23 forms are batched based on the purpose of the forms being collection of health status and medical related information to be processed by the school nurse or other authorized personnel in DoDEA schools.

Dated: May 25, 2016.
Aaron Siegel,
Alternate OSD Federal Register Liaison Officer, Department of Defense.

[FR Doc. 2016-12717 Filed 5-27-16; 8:45 am]

BILLING CODE 5001-06-P